RAILROAD RETIREMENT BOARD

Sunshine Act: Notice of Public Meeting

Notice is hereby given that the Railroad Retirement Board will hold a meeting on April 16, 2019, 10:00 a.m. at the Board's meeting room on the 8th Floor of its headquarters building, 844 North Rush Street, Chicago, Illinois 60611. The agenda for this meeting follows:

Portion open to the public:

1. Impact of the SCOTUS Wisconsin Central decision and any necessary Board Action.

The person to contact for more information is Stephanie Hillyard, Secretary to the Board, Phone No. 312-751-4920.

For the Board.
Dated: April 5, 2019.
Stephanie Hillyard,
Secretary to the Board.

[FR Doc. 2019-07123 Filed 4-5-19; 4:15 pm]

BILLING CODE 7905-01-P